DEPARTMENT OF LABOR

Agency Information Collection Activities; Comment Request for Information Collection; Information Collection Plan for Benefits.gov Online; Extension Without Change

AGENCY: Office of the Assistant Secretary for Administration and Management, U.S. Department of Labor.

ACTION: Notice of an opportunity for public comment.

SUMMARY: The Department of Labor (DOL), as part of its continuing effort to reduce paperwork and respondent burden, conducts a pre-clearance consultation program to provide the general public and Federal agencies with an opportunity to comment on proposed and/or continuing collections of information in accordance with the Paperwork Reduction Act of 1995 (PRA) [44 U.S.C. 3505(c)(2)(A)]. The program helps to ensure that requested data can be provided in the desired format, reporting burden (time and financial resources) is minimized, collection instruments are clearly understood, and the impact of the collection requirements on respondents can be properly assessed.

DATES: Written comments must be submitted by December 5, 2011.

ADDRESSES: A copy of the ICR and supporting documentation as submitted to the Office of Management and Budget (OMB) can be obtained by contacting the Department of Labor. To obtain copies, contact Michel Smyth by telephone at 202-693-4129 (this is not a toll-free number) or e-mail to DOL_PRA_PUBLIC@dol.gov. Send comments regarding this proposed collection of information, including suggestions for reducing the burden to the U.S. Department of Labor, Office of the Chief Information Officer, 200 Constitution Avenue, NW., Room N-1301, Washington, DC 20210.

SUPPLEMENTARY INFORMATION:

I. Background

The Federal Government developed a strategy to simplify the delivery of services to citizens, which included the Department of Labor (DOL) serving as the managing partner of the Benefits.gov Web site. The Benefits.gov Web site assists citizens by providing information and eligibility prescreening services for more than 1,000 Federally funded benefit and assistance programs.

This Web site reduces the burden on citizens attempting to locate services available from many different government agencies by providing one-stop access to information on obtaining those services.

Respondents answer a series of questions to the extent necessary for locating relevant information on Federal benefits. Responses are used by the respondent to expedite the identification and retrieval of sought after information and resources pertaining to the benefits sponsored by the Federal government.

II. Current Action

Pursuant to the PRA implementing regulations at 5 CFR 1320.8(d)(1), this notice requests comments on the proposed information collection request discussed above in the Background section of this notice. OMB approval for this collection of information is currently scheduled to expire on January 31, 2012. The DOL will request a three-year extension of the approval from OMB for the collection of information required for locating information on the Benefits.gov Web site. Interested parties are encouraged to provide comments to the individual listed in the ADDRESSES section above.

III. Desired Focus of Comments

The Department is particularly interested in comments which:

Evaluate whether the proposed collection of information is necessary for the proper performance of the functions of the agency, including whether the information will have practical utility;

Evaluate the accuracy of the agency's estimate of the burden of the proposed collection of information, including the validity of the methodology and assumptions used;

Enhance the quality, utility, and clarity of the information to be collected; and

Minimize the burden of the collection of information on those who are to respond, including through the use of appropriate automated, electronic, mechanical, or other technological collection techniques or other forms of information technology, e.g., permitting electronic submission of responses.

Agency: Office of the Assistant Secretary for Administration and Management.

Type of Review: Extension without change of a currently approved collection.

Title of Collection: Information Collection Plan for Benefits.gov Online.

OMB Control Number: 1290-0003.

Affected Public: Individuals or households, not for-profit institutions.

Estimated Number of Respondents: 6,345,715.

Frequency: On occasion.

Total Estimated Annual Responses: 6,345,715.

Estimated Average Time per Response: 5.5 minutes.

Estimated Total Annual Burden Hours: 581,691 hours.

Total Estimated Annual Cost Burden: $0.

Dated: September 29, 2011.
Linda Watts-Thomas,
Agency Clearance Officer.

[FR Doc. 2011-25606 Filed 10-4-11; 8:45 am]

BILLING CODE 4510-23-P